DEPARTMENT OF TRANSPORTATION

Federal Aviation Administration

Notice of Intent To Rule on a Land Release Request for Disposal of Airport Property at the Southwest Florida International Airport, Fort Myers, FL

AGENCY: Federal Aviation Administration (FAA), DOT.

ACTION: Request for public comment.

SUMMARY: Notice is being given that the FAA is considering a request from the Lee County Port Authority to release 1.08 (+/−) acres of federally obligated airport property at the Southwest Florida International Airport, Fort Myers, FL. This acreage was acquired with federal financial assistance via Airport Improvement Program Federal Grants. The release of property will allow the Lee County Port Authority to dispose of the property for non-aeronautical purposes.

DATES: Comments must be received on or before March 19, 2026.

ADDRESSES: Documents are available for review at the Lee County Port Authority, 11000 Terminal Access Road, Fort Myers, FL 33913, and the FAA Airports District Office, 8427 SouthPark Circle, Suite 524, Orlando, FL 32819. Written comments on the Sponsor's request must be delivered or mailed to: Marisol Elliott, Community Planner, Orlando Airports District Office, 8427 SouthPark Circle, Suite 524, Orlando, FL 32819.

FOR FURTHER INFORMATION CONTACT: Marisol Elliott, Community Planner, Orlando Airports District Office, 8427 SouthPark Circle, Suite 524, Orlando, FL 32819, (407) 487-7231.

SUPPLEMENTARY INFORMATION: The property is located on Treeline Avenue South in Fort Myers, FL and is currently developed as a four-lane divided arterial roadway with curb and gutter, sidewalks, and bicycle lanes. The anticipated use of the property will be to provide access to and from the Terminal Access Park. The parcel is currently depicted on the approved Airport Layout Plan as a non-aeronautical land use. The property will be released of its federal obligations given the land is no longer required by the Lee County Port Authority for aeronautical purposes. The property will be sold at the Fair Market Value (FMV) which has been determined to be $470,448. Section 125 of The Wendell H. Ford Aviation Investment and Reform Act for the 21st Century (AIR-21) requires the FAA to provide an opportunity for public notice and comment prior to the “waiver” or “modification” of a sponsor's Federal obligation to use certain airport land for non-aeronautical purposes.

Authority for the Policy: This notice is published under the authority described in Title 49 of the United States Code, Subtitle VII, part B, chapter 471, Section 47107(h)(2).

Issued in Orlando, FL on January 21, 2026.
Juan C. Brown,
Manager, Orlando Airports District Office.

[FR Doc. 2026-02995 Filed 2-13-26; 8:45 am]

BILLING CODE 4910-13-P